DEPARTMENT OF ENERGY

Federal Energy Regulatory Commission

[Docket No. EC05-75-000, et al.]

Granite Ridge Energy, LLC, et al.; Electric Rate and Corporate Filings

May 2, 2005.

The following filings have been made with the Commission. The filings are listed in ascending order within each docket classification.

1. Granite Ridge Energy, LLC; JPMorgan Chase Bank, N.A.; Merrill Lynch Credit Products, LLC; and SPO Partners II, L.P.

[Docket No. EC05-75-000]

Take notice that on April 27, 2005, Granite Ridge Energy, LLC (Granite Ridge), JPMorgan Chase Bank, N.A. (JPMCB), Merrill Lynch Credit Products, LLC (MLCP), and SPO Partners II, L.P. (SPO) filed an application pursuant to section 203 of the Federal Power Act, requesting the Commission to authorize the indirect disposition of jurisdictional facilities that may result from the transfer of indirect equity interests in Granite Ridge to and from JPMCB, MLCP, SPO and Castlerigg Partners, L.P.

Comment Date: May 18, 2005.

2. Brooklyn Navy Yard Cogeneration Partners, L.P.; BMC Acquisition LLC: B-41 Acquisition LLC; YC Acquisition LLC; and York Research Corporation

[Docket No. EC05-76-000]

Take notice that on April 28, 2005, BMC Acquisition LLC; B-41 Acquisition LLC; YC Acquisition LLC (collectively, Buyers); Brooklyn Navy Yard Cogeneration Partners, L.P. (BNYCP); and York Research Corporation (collectively, with Buyers and BNYCP, Applicants), tendered for filing with the Federal Energy Regulatory Commission, pursuant to section 203 of the Federal Power Act and Part 33 of the Commission's regulations, an application for authorization that would allow the Buyers to acquire and exercise an option to purchase upstream ownership interests in BNYCP. Pursuant to 18 CFR 33.9 (2004), the Applicants seek privileged treatment for Exhibits C-2 and C-4 to the application.

Comment Date: 5 p.m. eastern time on May 18, 2005.

3. Wisconsin Electric Power Company

[Docket No. ER98-855-006]

Take notice that on April 25, 2005, Wisconsin Electric Power Company (Wisconsin Electric) submitted a compliance filing pursuant to the Commission's Order issued March 24, 2005, 110 FERC ¶ 61,340. Wisconsin Electric states that the proposed filing incorporates the change of status reporting requirements adopted by the Commission in Order 652, Reporting Requirements for Changes in Status for Public Utilities with Market-Based Rate Authority, 110 FERC ¶ 61,097.

Wisconsin Electric states that copies of this filing were served on all parties to this proceeding.

Comment Date: 5 p.m. eastern time on May 16, 2005.

4. California Independent System Operator Corporation

[Docket Nos. ER03-1102-008 and EL05-14-001]

Take notice that on April 25, 2005, the California lndependent System Operator Corporation (CAISO) submitted a filing in compliance with the Commission order issued March 24, 2005 in Docket No. ER03-1102-003, et al., 110 FERC ¶ 61,333.

The CAISO states that this filing has been served upon all parties on the official service lists for the captioned dockets. In addition, the CAISO has posted this filing on the CAISO Home Page.

Comment Date: 5 p.m. eastern time on May 16, 2005.

5. Devon Power LLC; Middletown Power LLC; and Montville Power

[Docket No. ER04-23-013]

Take notice that on April 20, 2005, Devon Power LLC, Middletown Power LLC and Montville Power, (collectively NRG) tendered an errata to their filing submitted March 1, 2005, in Docket No. ER04-23-010.

Comment Date: 5 p.m. eastern time on May 11, 2005.

6. Dartmouth PPA Holdings LLC and Dartmouth Power Associates Limited Partnership

[Docket Nos. ER05-598-001 and ER05-599-001]

Take notice that on April 25, 2005, Dartmouth PPA Holdings, LLC, and Dartmouth Power Associates Limited Partnership submitted a compliance filing pursuant to the Commission's order issued April 14, 2005 in Docket Nos. ER05-598-000 and ER05-599-000, 111 FERC ¶ 61, 039, to incorporate the change of status reporting requirements adopted by the Commission in Order 652, Reporting Requirements for Changes in Status for Public Utilities with Market-Based Rate Authority,110 FERC ¶ 61,097.

Comment Date: 5 p.m. eastern time on May 16, 2005.

7. Midwest Independent Transmission System Operator, Inc.

[Docket No. ER05-662-001]

Take notice that on April 25, 2005, the Midwest Independent Transmission System Operator, Inc. (Midwest ISO) amended its March 1, 2005 filing in Docket No. ER05-662-000 to provide an exhibit. Midwest ISO requests an effective date of February 23, 2005.

Midwest ISO states that a copy of this filing was served on all parties on the service list maintained by the Secretary in this proceeding.

Comment Date: 5 p.m. eastern time on May 16, 2005.

8. ATPower & Energy, LLC

[Docket No. ER05-859-000]

Take notice that on April 25, 2005, ATPower & Energy, LLC (ATPower & Energy) petitioned the Commission for acceptance of ATPower & Energy Rate Schedule FERC No. 1; the granting of certain blanket approvals, including the authority to sell electricity at market-based rates; and the waiver of certain Commission regulations.

Comment Date: 5 p.m. eastern time on May 16, 2005.

9. Midwest Independent Transmission System Operator, Inc.

[Docket No. ER05-862-000]

Take notice that on April 25, 2005, the Midwest Independent Transmission System Operator, Inc. (Midwest ISO) submitted a Letter Agreement among PSEG Lawrenceburg Energy Company LLC, Cinergy Services, Inc., as agent for The Cincinnati Gas & Electric Company and the Midwest ISO.

Midwest ISO states that a copy of this filing was served on PSEG Lawrenceburg Energy Company LLC and Cinergy Services, Inc.

Comment Date: 5 p.m. eastern time on May 16, 2005.

10. Wisconsin Electric Power Company

[Docket No. ER05-863-000]

Take notice that on April 25, 2005, Wisconsin Electric Power Company (Wisconsin Electric) submitted revisions to its Market Based Power Sales and Resale Transmission Tariff, FERC Electric Tariff, Original Volume No. 8. Wisconsin Electric states that the proposed amendments are minor revisions to correct dates and typographical errors on two tariff sheets.

Wisconsin Electric states that copies of this filing were served on all parties listed In Attachment C to the filing.

Comment Date: 5 p.m. eastern time on May 16, 2005.

11. Sheboygan Power, LLC

[Docket No. ER05-869-000]

Take notice that on April 22, 2005, Alliant Energy Corporate Services, Inc., on behalf of Sheboygan Power, LLC (SPLLC), submitted for filing with the Commission SPLLC's Rate Schedule No. 1 for Short-Term Sales of Test Power to permit SPLLC to sell wholesale test electric capacity and energy to Wisconsin Power and Light Company during the testing of SPLLC's electric generating facility. Alliant requests an effective date of April 28, 2005.

Comment Date: 5 p.m. eastern time on May 16, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2268 Filed 5-9-05; 8:45 am]

BILLING CODE 6717-01-P